ENVIRONMENTAL PROTECTION AGENCY

[EPA-HQ-OPP-2007-0328; FRL-8362-3]

Pesticides; Final Guidance for Pesticide Registrants on Environmental Hazard General Labeling Statements on Outdoor Residential Use Products; Notice of Availability

AGENCY: Environmental Protection Agency (EPA).

ACTION: Notice.

SUMMARY: The Agency is announcing the availability of a Pesticide Registration Notice (PR Notice) entitled “Environmental Hazard General Labeling Statements on Outdoor Residential Use Products.” This PR Notice was issued by the Agency on May 9, 2008 and is identified as PR Notice 2008-1. PR Notices are issued by the Office of Pesticide Programs (OPP) to inform pesticide registrants and other interested persons about important policies, procedures, and registration related decisions, and serve to provide guidance to pesticide registrants and OPP personnel. This particular PR Notice provides guidance to the registrant concerning new environmental hazard statements that are designed to replace language created for agricultural products with statements that are easier for consumers to understand. The new environmental hazard statements are divided by product type (e.g., liquid ready-to-use, broadcast granular), and recommends specific language for each product type to minimize risks to the human health and the environment, with emphasis on reducing risks to water. Revisions to product labels using these new statements may be made by notification.

FOR FURTHER INFORMATION CONTACT: Jim Roelofs, Field and External Affairs Division (7506P), Office of Pesticide Programs, Environmental Protection Agency, 1200 Pennsylvania Ave., NW., Washington, DC 20460-0001; telephone number: (703) 308-2964; fax number: (703) 308-1850; e-mail address: roelofs.jim @epa.gov.

SUPPLEMENTARY INFORMATION:

I. General Information

A. Does this Action Apply to Me?

This action is directed to the public in general. Although this action may be of particular interest to those persons who are required to register, regulate or label pesticides, the Agency has not attempted to describe all the specific entities that may be affected by this action. If you have any questions regarding the information in this notice, consult the person listed under FOR FURTHER INFORMATION CONTACT.

B. How Can I Get Copies of this Document and Other Related Information?

1. Docket. EPA has established a docket for this action under docket identification (ID) number EPA-HQ-OPP-2007-0328. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. What Guidance Does this PR Notice Provide?

This final PR Notice provides guidance to the registrant concerning new environmental hazard statements that are designed to replace language created for agricultural products with statements that are easier for consumers to understand. The new environmental hazard statements are divided by product type (e.g., liquid ready-to-use, broadcast granular), and recommends specific language for each product type to minimize risks to the human health and the environment, with emphasis on reducing risks to water. Revisions to product labels using these new statements may be made by notification.

III. Do PR Notices Contain Binding Requirements?

The PR Notice discussed in this notice is intended to provide guidance to EPA personnel and decisionmakers and to pesticide registrants. While the requirements in the statutes and Agency regulations are binding on EPA and the applicants, this PR Notice is not binding on either EPA or pesticide registrants, and EPA may depart from the guidance where circumstances warrant and without prior notice. Likewise, pesticide registrants may assert that the guidance is not appropriate generally or not applicable to a specific pesticide or situation.

List of Subjects

Environmental protection, Administrative practice and procedure, Environmental hazard statements, Pesticides and pests, Residential.

Dated: May 9, 2008.
Debra Edwards,
Director, Office of Pesticide Programs.

[FR Doc. E8-11293 Filed 5-20-08; 8:45 am]

BILLING CODE 6560-50-S